DEPARTMENT OF THE INTERIOR

National Park Service

[2253-665]

Notice of Inventory Completion: University of Colorado Museum, Boulder, CO

AGENCY: National Park Service, Interior.

ACTION: Notice.

SUMMARY: The University of Colorado Museum has completed an inventory of human remains, in consultation with the appropriate Indian tribes, and has determined that there is no cultural affiliation between the human remains and any present-day Indian tribe. Representatives of any Indian tribe that believes itself to be culturally affiliated with the human remains may contact the University of Colorado Museum. Disposition of the human remains to the Indian tribes stated below may occur if no additional requestors come forward.

DATES: Representatives of any Indian tribe that believes it has a cultural affiliation with the human remains should contact the University of Colorado Museum at the address below by November 10, 2011.

ADDRESSES: Steve Lekson, Curator of Anthropology, University of Colorado Museum, Campus Box 218, Boulder, CO 80309, telephone (303) 492-6671.

SUPPLEMENTARY INFORMATION: Notice is here given in accordance with the Native American Graves Protection and Repatriation Act (NAGPRA), 25 U.S.C. 3003, of the completion of an inventory of human remains in the possession of the University of Colorado Museum, Boulder, CO. The human remains were removed from California.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by University of Colorado Museum professional staff in consultation with representatives of the Agua Caliente Band of Cahuilla Mission Indians, California; Alturas Indian Rancheria, California; Augustine Band of Cahuilla Mission Indians, California; Barona Group of Capitan Grande Ban of Mission Indians of the Barona Reservation, California; Bear River Band of Rohnerville Rancheria, California; Berry Creek Rancheria of Maidu Indians of California; Big Lagoon Rancheria, California; Big Pine Band of Owens Valley Paiute Shoshone Indians of the Big Pine Reservation, California; Big Sandy Rancheria of Mono Indians of California; Big Valley Band of Pomo Indians of the Big Valley Rancheria, California; Blue Lake Rancheria, California; Bridgeport Paiute Indian Colony of California; Buena Vista Rancheria of Me-Wuk Indians of California; Burns Paiute Tribe of the Burns Paiute Indian Colony of Oregon; Cabazon Band of Mission Indians, California; Cachil DeHe Band of Wintun Indians of the Colusa Indian Community of the Colusa Rancheria, California; Caddo Nation of Oklahoma; Cahto Indian Tribe of the Laytonville Rancheria, California; Cahuilla Band of Mission Indians of the Cahuilla Reservation, California; California Valley Miwok Tribe, California; Campo Band of Diegueno Mission Indians of the Campo Reservation, California; Cedarville Rancheria, California; Chemehuevi Indian Tribe of the Chemehuevi Reservation, California; Cher-Ae Heights Indian Community of the Trinidad Rancheria, California; Chicken Ranch Rancheria of Me-Wuk Indians of California; Cloverdale Rancheria of Pomo Indians of California; Cold Springs Rancheria of Mono Indians of California; Colorado River Indian Tribes of the Colorado River Indian Reservation, Arizona and California; Confederated Tribes of the Grand Ronde Community of Oregon; Confederated Tribes of the Siletz Reservation, Oregon; Coyote Valley Band of Pomo Indians of California; Death Valley Timbi-Sha Shoshone Band of California; Dry Creek Rancheria of Pomo Indians of California; Elem Indian Colony of Pomo Indians of the Sulphur Bank Rancheria, California; Elk Valley Rancheria, California; Enterprise Rancheria of Maidu Indians of California; Ewiiaapaayp Band of Kumeyaay Indians, California; Federated Indians of Graton Rancheria, California; Fort Bidwell Indian Community of the Fort Bidwell Reservation of California; Fort Independence Indian Community of Paiute of the Fort Independence Reservation, California; Fort McDermitt Paiute and Shoshone Tribes of the Fort McDermitt Indian Reservation, Nevada and Oregon; Fort McDowell Yavapai Nation, Arizona; Fort Mohave Indian Tribes of Arizona, California & Nevada; Greenville Rancheria of Maidu Indians of California; Grindstone Indian Rancheria of Wintun-Wailaki Indians of California; Guidiville Rancheria of California; Habematolel Pomo of Upper Lake, California; Hoopa Valley Tribe, California; Hopland Band of Pomo Indians of the Hopland Rancheria, California; Iipay Nation of Santa Ysabel, California; Inaja Band of Diegueno Mission Indians of the Inaja and Cosmit Reservation, California; Ione Band of Miwok Indians of California; Jackson Rancheria of Me-Wuk Indians of California; Jamul Indian Village of California; Kaibab Band of Paiute Indians of the Kaibab Indian Reservation, Arizona; Karuk Tribe; Kashia Band of Pomo Indians of the Stewarts Point Rancheria, California; Klamath Tribes, Oregon; La Jolla Band of Luiseno Indians, California; La Posta Band of Diegueno Mission Indians of the La Posta Indian Reservation, California; Las Vegas Tribe of Paiute Indians of the Las Vegas Indian Colony, Nevada; Los Coyotes Band of Cahuilla & Cupeno Indians, California; Lovelock Paiute Tribe of the Lovelock Indian Colony, Nevada; Lower Lake Rancheria, California; Lytton Rancheria of California; Manchester Band of Pomo Indians of the Manchester-Point Arena Rancheria, California; Manzanita Band of Diegueno Mission Indians of the Manzanita Reservation, California; Mechoopda Indian Tribe of the Chico Rancheria, California; Mesa Grande Band of Diegueno Mission Indians of the Mesa Grande Reservation, California; Middletown Rancheria of Pomo Indians of California; Moapa Band of Paiute Indians of the Moapa River Indian Reservation, Nevada; Modoc Tribe of Oklahoma; Mooretown Rancheria of Maidu Indians of California; Morongo Band of Cahuilla Mission Indians, California; Northfork Rancheria of Mono Indians of California; Northwest Band of Shoshoni Nation of Utah (Washakie); Paiute Indian Tribe of Utah (Cedar Band of Paiutes, Kanosh Band of Paiutes, Koosharem Band of Paiutes, Indian Peaks Band of Paiutes, and Shivwits Band of Paiutes); Paiute-Shoshone Indians of the Bishop Community of the Bishop Colony, California; Paiute-Shoshone of the Fallon Reservation and Colony, Nevada; Paiute-Shoshone Indians of the Lone Pine Community of the Lone Pine Reservation, California; Pala Band of Luiseno Mission Indians of the Pala Reservation, California; Paskenta Band of Nomlaki Indians of California; Pauma Band of Luiseno Mission Indians of the Pauma & Yuima Reservation, California; Pechanga Band of Luiseno Mission Indians of the Pechanga Reservation, California; Picayune Rancheria of Chukchansi Indians of California; Pinoleville Pomo Nation, California; Pit River Tribe, California (includes XL Ranch, Big Bend, Likely, Lookout, Montgomery Creek and Roaring Creek Rancherias); Potter Valley Tribe, California; Pyramid Lake Paiute Tribe of the Pyramid Lake Reservation, Nevada; Quartz Valley Indian Community of the Quartz Valley Reservation of California; Quechan Tribe of the Fort Yuma Indian Reservation, California & Arizona; Ramona Band of Cahuilla, California; Redding Rancheria California; Redwood Valley Rancheria of Pomo Indians of California; Reno-Sparks Indian Colony, Nevada; Resighini Rancheria, California; Rincon Band of Luiseno Mission Indians of the San Manuel Reservation, California; Robinson Rancheria of Pomo Indians of California; Round Valley Indian Tribes of the Round Valley Reservation, California; San Juan Southern Paiute Tribe of Arizona; San Manuel Band of Mission Indians, California; San Pasqual Band of Diegueno Mission Indians of California; Santa Rosa Band of Cahuilla Indians; Santa Rosa Indian Community of the Santa Rosa Rancheria, California; Santa Ynez Band of Chumash Mission Indians of the Santa Ynez Reservation, California; Scotts Valley Band of Pomo Indians of California; Sherwood Valley Rancheria of Pomo Indians of California; Shingle Springs Band of Miwok Indians, Shingle Springs Rancheria (Verona Tract), California; Shoshone-Paiute Tribes of the Duck Valley Reservation, Nevada; Smith River Rancheria, California; Soboba Band of Luiseno Indians, California; Summit Lake Paiute Tribe of Nevada; Susanville Indian Rancheria, California; Sycuan Band of the Kumeyaay Nation; Table Mountain Rancheria of California; Te-Moak Tribe of Western Shoshone Indians of Nevada (Four constituent bands: Battle Mountain Band; Elko Band; South Fork Band and Wells Band); Torres Martinez Desert Cahuilla Indians, California; Tule River Indian Tribe of the Tule River Reservation, California; Tuolumne Band of Me-Wuk Indians of the Tuolumne Rancheria of California; Twenty-Nine Palms Band of Mission Indians of California; United Auburn Indian Community of the Auburn Rancheria of California; Utu Utu Gwaitu Paiute Tribe of the Benton Paiute Reservation, California; Viejas (Baron Long) Group of Capitan Grande Band of Mission Indians of the Viejas Reservation, California; Walker River Paiute Tribe of the Walker River Reservation, Nevada; Washoe Tribe of Nevada & California (Carson Colony, Dresslerville Colony, Woodfords Community, Stewart Community, & Washoe Ranches); Wiyot Tribe, California; Yavapai-Apache Nation of the Camp Verde Indian Reservation, Arizona; Yerington Paiute Tribe of the Yerington Colony & Campbell Ranch, Nevada Yocha Dehe Wintun Nation, California; and Yurok Tribe of the Yurok Reservation, California (herein after “The Tribes”).

History and Description of the Remains

On an unknown date, human remains representing a minimum of one individual were removed from California by Joe Ben Wheat, the curator of anthropology at the University of Colorado Museum from 1953 to 1988. In November 2009, the human remains (a tooth) (TIN 0058) were found in the collection. No known individual was identified. No associated funerary objects are present.

Determinations Made by the University of Colorado Museum

Officials of the University of Colorado Museum have determined that:

• Based on the collecting history of Joe Ben Wheat, the human remains are Native American.

• Pursuant to 25 U.S.C. 3001(2), a relationship of shared group identity cannot be reasonably traced between the Native American human remains and any present-day Indian tribe.

• According to final judgments of the Indian Claims Commission, the land from which the Native American human remains were removed is the aboriginal land of the Colorado River Indian Tribes of the Colorado River Indian Reservation, Arizona and California; Fort McDermitt Paiute and Shoshone Tribes of the Fort McDermitt Indian Reservation, Nevada and Oregon; Fort McDowell Yavapai Nation, Arizona; Fort Mohave Indian Tribes of Arizona, California & Nevada; Kaibab Band of Paiute Indians of the Kaibab Indian Reservation, Arizona; Klamath Tribes, Oregon; Las Vegas Tribe of Paiute Indians of the Las Vegas Indian Colony, Nevada; Moapa Band of Paiute Indians of the Moapa River Indian Reservation, Nevada; Paiute Indian Tribe of Utah (Cedar Band of Paiutes, Kanosh Band of Paiutes, Koosharem Band of Paiutes, Indian Peaks Band of Paiutes, and Shivwits Band of Paiutes); Paiute-Shoshone Tribe of the Fallon Reservation and Colony, Nevada; Pit River Tribe, California (includes XL Ranch, Big Bend, Likely, Lookout, Montgomery Creek and Roaring Creek Rancherias); Pyramid Lake Paiute Tribe of the Pyramid Lake Reservation, Nevada; Quechan Tribe of the Fort Yuma Indian Reservation, California & Arizona; Reno-Sparks Indian Colony, Nevada; Walker River Paiute Tribe of the Walker River Reservation, Nevada; Washoe Tribe of Nevada & California (Carson Colony, Dresslerville Colony, Woodfords Community, Stewart Community, & Washoe Ranches); Yavapai-Apache Nation of the Camp Verde Indian Reservation, Arizona; and Yerington Paiute Tribe of the Yerington Colony & Campbell Ranch, Nevada.

• Multiple lines of evidence, including treaties, Acts of Congress, and Executive Orders, indicate that the land from which the Native American human remains were removed is the aboriginal land of the Agua Caliente Band of Cahuilla Mission Indians, California; Augustine Band of Cahuilla Mission Indians, California; Berry Creek Rancheria of Maidu Indians of California; Big Pine Band of Owens Valley Paiute Shoshone Indians of the Big Pine Reservation, California; Big Sandy Rancheria of Mono Indians of California; Big Valley Band of Pomo Indians of the Big Valley Rancheria, California; Bridgeport Paiute Indian Colony of California; Buena Vista Rancheria of Me-Wuk Indians of California; Burns Paiute Tribe of the Burns Paiute Indian Colony of Oregon; Caddo Nation of Oklahoma; California Valley Miwok Tribe, California; Chicken Ranch Rancheria of Me-Wuk Indians of California; Cloverdale Rancheria of Pomo Indians of California; Cold Springs Rancheria of Mono Indians of California; Colorado River Indian Tribes of the Colorado River Indian Reservation, Arizona and California; Confederated Tribes of the Grand Ronde Community of Oregon; Confederated Tribes of the Siletz Reservation, Oregon; Coyote Valley Band of Pomo Indians of California; Dry Creek Rancheria of Pomo Indians of California; Elem Indian Colony of Pomo Indians of the Sulphur Bank Rancheria, California; Enterprise Rancheria of Maidu Indians of California; Fort McDermitt Paiute and Shoshone Tribes of the Fort McDermitt Indian Reservation, Nevada and Oregon; Grindstone Indian Rancheria of Wintun-Wailaki Indians of California; Hoopa Valley Tribe, California; Hopland Band of Pomo Indians of the Hopland Rancheria, California; Ione Band of Miwok Indians of California; Jackson Rancheria of Me-Wuk Indians of California; Kaibab Band of Paiute Indians of the Kaibab Indian Reservation, Arizona; Kashia Band of Pomo Indians of the Stewarts Point Rancheria, California; Klamath Tribes, Oregon; La Jolla Band of Luiseno Indians, California; Las Vegas Tribe of Paiute Indians of the Las Vegas Indian Colony, Nevada; Los Coyotes Band of Cahuilla & Cupeno Indians, California; Lovelock Paiute Tribe of the Lovelock Indian Colony, Nevada; Manchester Band of Pomo Indians of the Manchester-Point Arena Rancheria, California; Middletown Rancheria of Pomo Indians of California; Moapa Band of Paiute Indians of the Moapa River Indian Reservation, Nevada; Modoc Tribe of Oklahoma; Mooretown Rancheria of Maidu Indians of California; Morongo Band of Cahuilla Mission Indians, California; Northfork Rancheria of Mono Indians of California; Northwest Band of Shoshoni Nation of Utah (Washakie); Paiute Indian Tribe of Utah (Cedar Band of Paiutes, Kanosh Band of Paiutes, Koosharem Band of Paiutes, Indian Peaks Band of Paiutes, and Shivwits Band of Paiutes); Paiute-Shoshone Indians of the Bishop Community of the Bishop Colony, California; Paiute-Shoshone of the Fallon Reservation and Colony, Nevada; Paiute-Shoshone Indians of the Lone Pine Community of the Lone Pine Reservation, California; Pala Band of Luiseno Mission Indians of the Pala Reservation, California; Paskenta Band of Nomlaki Indians of California; Pauma Band of Luiseno Mission Indians of the Pauma & Yuima Reservation, California; Pechanga Band of Luiseno Mission Indians of the Pechanga Reservation, California; Picayune Rancheria of Chukchansi Indians of California; Pinoleville Pomo Nation, California; Pyramid Lake Paiute Tribe of the Pyramid Lake Reservation, Nevada; Quechan Tribe of the Fort Yuma Indian Reservation, California & Arizona; Ramona Band of Cahuilla, California; Redwood Valley Rancheria of Pomo Indians of California; Rincon Band of Luiseno Mission Indians of the San Manuel Reservation, California; Robinson Rancheria of Pomo Indians of California; Round Valley Indian Tribes of the Round Valley Reservation, California; San Juan Southern Paiute Tribe of Arizona; San Pasqual Band of Diegueno Mission Indians of California; Santa Rosa Indian Community of the Santa Rosa Rancheria, California; Santa Rosa Band of Cahuilla Indians; Scotts Valley Band of Pomo Indians of California; Sherwood Valley Rancheria of Pomo Indians of California; Shingle Springs Band of Miwok Indians, Shingle Springs Rancheria (Verona Tract), California; Shoshone-Paiute Tribes of the Duck Valley Reservation, Nevada; Smith River Rancheria, California; Soboba Band of Luiseno Indians, California; Summit Lake Paiute Tribe of Nevada; Table Mountain Rancheria of California; Te-Moak Tribe of Western Shoshone Indians of Nevada (Four constituent bands: Battle Mountain Band; Elko Band; South Fork Band and Wells Band); Torres Martinez Desert Cahuilla Indians, California; Tule River Indian Tribe of the Tule River Reservation, California; Tuolumne Band of Me-Wuk Indians of the Tuolumne Rancheria of California; Utu Utu Gwaitu Paiute Tribe of the Benton Paiute Reservation, California; Walker River Paiute Tribe of the Walker River Reservation, Nevada; Washoe Tribe of Nevada & California (Carson Colony, Dresslerville Colony, Woodfords Community, Stewart Community, & Washoe Ranches); and Yerington Paiute Tribe of the Yerington Colony & Campbell Ranch, Nevada.

• Other credible lines of evidence indicate that the land from which the Native American human remains and associated funerary object were removed is the aboriginal land of the Alturas Indian Rancheria, California; Barona Group of Capitan Grande Ban of Mission Indians of the Barona Reservation, California; Bear River Band of Rohnerville Rancheria, California; Big Lagoon Rancheria, California; Blue Lake Rancheria, California; Cabazon Band of Mission Indians, California; Cachil DeHe Band of Wintun Indians of the Colusa Indian Community of the Colusa Rancheria, California; Cahto Indian Tribe of the Laytonville Rancheria, California; Cahuilla Band of Mission Indians of the Cahuilla Reservation, California; Campo Band of Diegueno Mission Indians of the Campo Reservation, California; Cedarville Rancheria, California; Chemehuevi Indian Tribe of the Chemehuevi Reservation, California; Cher-Ae Heights Indian Community of the Trinidad Rancheria, California; Death Valley Timbi-Sha Shoshone Band of California; Elk Valley Rancheria, California; Ewiiaapaayp Band of Kumeyaay Indians, California; Federated Indians of Graton Rancheria, California; Fort Bidwell Indian Community of the Fort Bidwell Reservation of California; Fort Independence Indian Community of Paiute of the Fort Independence Reservation, California; Greenville Rancheria of Maidu Indians of California; Guidiville Rancheria of California; Habematolel Pomo of Upper Lake, California; Iipay Nation of Santa Ysabel, California; Inaja Band of Diegueno Mission Indians of the Inaja and Cosmit Reservation, California; Jamul Indian Village of California; Karuk Tribe; La Posta Band of Diegueno Mission Indians of the La Posta Indian Reservation, California; Lower Lake Rancheria, California; Lytton Rancheria of California; Manzanita Band of Diegueno Mission Indians of the Manzanita Reservation, California; Mechoopda Indian Tribe of the Chico Rancheria, California; Mesa Grande Band of Diegueno Mission Indians of the Mesa Grande Reservation, California; Potter Valley Tribe, California; Quartz Valley Indian Community of the Quartz Valley Reservation of California; Redding Rancheria California; Resighini Rancheria California; San Manuel Band of Mission Indians, California; Santa Ynez Band of Chumash Mission Indians of the Santa Ynez Reservation, California; Susanville Indian Rancheria, California; Sycuan Band of the Kumeyaay Nation; Twenty-Nine Palms Band of Mission Indians of California; United Auburn Indian Community of the Auburn Rancheria or California; Viejas (Baron Long) Group of Capitan Grande Band of Mission Indians of the Viejas Reservation, California; Wiyot Tribe, California; Yocha Dehe Wintun Nation, California; and Yurok Tribe of the Yurok Reservation, California.

• Pursuant to 25 U.S.C. 3001(9), the human remains described above represent the physical remains of one individual of Native American ancestry.

• Pursuant to 43 CFR 10.11(c)(1), the disposition of the human remains is to the Santa Rosa Indian Community of the Santa Rosa Rancheria, California.

Additional Requestors and Disposition

Representatives of any Indian tribe that believes itself to be culturally affiliated with the human remains or any other Indian tribe that believes it satisfies the criteria in 43 CFR 10.11(c)(1) should contact Steve Lekson, Curator of Anthropology, University of Colorado Museum, Campus Box 218, Boulder, CO 80309, telephone (303) 492-6671, before November 10, 2011. Disposition of the human remains to the Santa Rosa Indian Community of the Santa Rosa Rancheria, California may proceed after that date if no additional claimants come forward.

The University of Colorado Museum is responsible for notifying The Tribes that this notice has been published.

Dated: October 3, 2011.
Sherry Hutt,
Manager, National NAGPRA Program.

[FR Doc. 2011-26164 Filed 10-7-11; 8:45 am]

BILLING CODE 4312-50-P